DEPARTMENT OF TRANSPORTATION

Federal Highway Administration

Environmental Impact Statement: Iron County, UT

AGENCY: Federal Highway Administration (FHWA), DOT

ACTION: Notice of termination.

SUMMARY: The FHWA is issuing this notice to advise the public that the effort to prepare an Environmental Impact Statement (EIS) for transportation improvements to Cross Hollow Road, from I-15 to SR-56, located in Cedar City, Utah, will be terminated.

FOR FURTHER INFORMATION CONTACT: Sandra A. Garcia-Aline, Transportation Engineer, FHWA, Utah Division, 2520 West 4700 South, Suite 9A, Salt Lake City, UT 84118, Telephone (801) 963-0182; or Daryl Friant, Utah Department of Transportation (UDOT), 1345 South 350 West, Richfield, UT 84701, Telephone (435) 893-4714.

SUPPLEMENTARY INFORMATION: The FHWA in cooperation with the UDOT and Cedar City have elected to terminate efforts to prepare an EIS for transportation improvements on Cross Hollow Road between I-15 and SR-56. The Notice of Intent for this project was originally published on March 10, 2005. Cedar City has recently elected not to use federal funds on the project. Therefore, no federal funds or federal action will be required for the revised project. The FHWA, in conjunction with the Utah Department of Transportation, has decided to discontinue efforts on this project. If you have any questions regarding the revised Cross Hollow Road project or would like to provide scoping comments, please contact Tamerha Maxwell, UDOT Project Manager, at (435) 865-5511.

(Catalog of Federal and Domestic Assistance Program Number 20.205, Highway Research, Planning and Construction. The regulations implementing Executive Order 12372 regarding intergovernmental consultation on Federal programs and activities apply to this program.)

Sandra A. Garcia-Aline,
NEPA Manager, Federal Highway Administration, Salt Lake, Utah.

[FR Doc. 06-923 Filed 1-31-06; 8:45 am]

BILLING CODE 4910-22-M